FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011665-006.

Title: Specialized Reefer Shipping Association.

Parties:

LauritzenCool AB, NYK Reefers Ltd.

Seatrade Group NV.

Synopsis: The amendment adds NYK Reefers Ltd. as a party to the agreement.

Agreement No.: 201026-004.

Title: New Orleans/P&O Ports LA Terminal Lease Agreement.

Parties:

Board of Commissioners of the Port of New Orleans

P&O Ports Louisiana, Inc.

Synopsis: The amendment amends the lease to include a larger acreage and a roadway reservation and to permit the lessee other similar rights of way in the facility.

By Order of the Federal Maritime Commission.
Dated: November 14, 2003.
Bryant L. VanBrakle,
Secretary.

[FR Doc. 03-28921 Filed 11-18-03; 8:45 am]

BILLING CODE 6730-01-P